DEPARTMENT OF HEALTH AND HUMAN SERVICES

Centers for Disease Control and Prevention

Disease, Disability, and Injury Prevention and Control Special Emphasis Panel (SEP)—Funding Opportunity Announcement (FOA), PAR 16-098, Cooperative Research Agreements to the World Trade Center Health Program (U01); Amended Notice of Meeting

Notice is hereby given of a change in the meeting of the Disease, Disability, and Injury Prevention and Control Special Emphasis Panel (SEP)—FOA, PAR 16-098, Cooperative Research Agreements to the World Trade Center Health Program (U01); March 10, 2020; and March 11, 2020, Day One: 8:00 a.m.-5:00 p.m., EDT; and Day Two: 8:00 a.m.-12:00 p.m., EDT, in the original FRN.

Courtyard Marriott Decatur Downtown/Emory, 130 Clairmont Avenue, Decatur, Georgia 30030, Telephone: (404) 371-0201, which was published in the Federal Register on January 14, 2020, Volume 85, Number 9, page 2136.

The meeting is being amended to a virtual meeting, and the meeting time has been extended to 4:00 p.m., EDT on March 11, 2020. The meeting is closed to the public.

FOR FURTHER INFORMATION CONTACT: Nina Turner, Ph.D., Scientific Review Officer, CDC/NIOSH, 1095 Willowdale Road, Mailstop G905, Morgantown, West Virginia 26505, Telephone: (304) 285-5975.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-05374 Filed 3-16-20; 8:45 am]

BILLING CODE 4163-18-P